DEPARTMENT OF COMMERCE

National Oceanic and Atmospheric Administration

[RTID 0648-XF523]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's Ecosystem and Ocean Planning Committee and Advisory Panel will hold a public meeting.

DATES: The meeting will be held on Tuesday, March 10, 2026, from 1 p.m.-4 p.m. For agenda details, see SUPPLEMENTARY INFORMATION.

ADDRESSES: The meeting will be held via webinar. Connection information will be posted to the Council's calendar prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Ecosystem and Ocean Planning Committee and Advisory Panel will meet via webinar on Tuesday, March 10, 2026, from 1 p.m.-4 p.m. The purpose of this meeting is for the Committee and Advisors to review public comments received on the Council's Omnibus Essential Fish Habitat Amendment, to review the Fishery Management Action Team recommendations on this action, and to make recommendations to the Council. Based on this input, the Council will consider final action on this Amendment at its April 2026 Meeting.

The meeting is physically accessible to people with disabilities. Requests for sign language interpretation or other auxiliary aids should be directed to Shelley Spedden, (302) 526-5251 at least 5 days prior to the meeting date.

Authority: 16 U.S.C. 1801 et seq.

Dated: February 4, 2026.
Rey Israel Marquez,
Acting Deputy Director, Office of Sustainable Fisheries, National Marine Fisheries Service.

[FR Doc. 2026-02462 Filed 2-6-26; 8:45 am]

BILLING CODE 3510-22-P